DEPARTMENT OF TRANSPORTATION

Surface Transportation Board

[Docket No. EP 670 (Sub-No. 2)]

Notice of Rail Energy Transportation Advisory Committee Vacancies

AGENCY: Surface Transportation Board, DOT.

ACTION: Notice of vacancies on federal advisory committee and solicitation of nominations.

SUMMARY: The Surface Transportation Board (Board), hereby gives notice of four vacancies on the Board's Rail Energy Transportation Advisory Committee for (1) a representative from a state- or municipally-owned electric utility, (2) a representative from a biofuel refiner, processor, or distributor, or biofuel feedstock grower or provider, (3) a representative from a coal producer, and (4) a representative from a petroleum producer or shipper. The Board is soliciting suggestions for candidates to fill those vacancies.

DATES: Suggestions of candidates for membership on RETAC are due December 27, 2012.

ADDRESSES: Suggestions may be submitted either via the Board's e-filing format or in the traditional paper format. Any person using e-filing should attach a document and otherwise comply with the instructions at the E-FILING link on the Board's Web site, at http://www.stb.dot.gov. Any person submitting a filing in the traditional paper format should send an original and 10 copies to: Surface Transportation Board, Attn: Docket No. EP 670 (Sub-No. 2), 395 E Street SW., Washington, DC 20423-0001.

FOR FURTHER INFORMATION CONTACT: Scott M. Zimmerman at 202-245-0386. [Assistance for the hearing impaired is available through the Federal Information Relay Service (FIRS) at 1-800-877-8339.]

SUPPLEMENTARY INFORMATION: The Board, established in 1996 by Congress to take over many of the functions previously performed by the Interstate Commerce Commission, exercises broad authority over transportation by rail carriers, including regulation of railroad rates and service (49 U.S.C. 10701-10747, 11101-11124), as well as the construction, acquisition, operation, and abandonment of rail lines (49 U.S.C. 10901-10907), and railroad line sales, consolidations, mergers, and common control arrangements (49 U.S.C. 10902, 11323-11327).

In 2007, the Board established RETAC as a federal advisory committee consisting of a balanced cross-section of energy and rail industry stakeholders to provide independent, candid policy advice to the Board and to foster open, effective communication among the affected interests on issues such as rail performance, capacity constraints, infrastructure planning and development, and effective coordination among suppliers, carriers, and users of energy resources. RETAC operates subject to the Federal Advisory Committee Act.

RETAC's membership is balanced and representative of interested and affected parties, consisting of not less than: five representatives from the Class I railroads, three representatives from Class II and III railroads, three representatives from coal producers, five representatives from electric utilities (including at least one rural electric cooperative and one state- or municipally-owned utility), four representatives from biofuel refiners, processors, or distributors, or biofuel feedstock growers or providers, and two representatives from private car owners, car lessors, or car manufacturers. RETAC may also include up to three members with relevant experience but not necessarily affiliated with one of the aforementioned industries or sectors. Members are selected by the Chairman of the Board with the concurrence of a majority of the Board. The Chairman of the Board may invite representatives from the U.S. Departments of Agriculture, Energy, and Transportation and the Federal Energy Regulatory Commission to serve on RETAC in advisory capacities as ex officio (non-voting) members, and the three members of the Board serve as ex officio members of the Committee as well.

RETAC meets at least twice per year. Meetings are generally held at the Board's headquarters in Washington, DC, but may be held in other locations. Members of RETAC serve without compensation and without reimbursement of travel expenses unless reimbursement of such expenses is authorized in advance by the Board's Managing Director. RETAC members appointed or reappointed after June 18, 2010, are prohibited from serving as federally registered lobbyists during their RETAC term.

The Board is soliciting nominations for candidates to fill four vacancies on RETAC for representatives from (1) a state- or municipally-owned electric utility, for a three-year term ending September 30, 2015, (2) a biofuel refiner, processor, or distributor, or biofuel feedstock grower or provider, for a three-year term ending September 30, 2015, (3) a coal producer, for the remainder of a three-year term ending September 30, 2014, and (4) a petroleum producer or shipper, for a three-year term ending September 30, 2015. The petroleum position is a new one, to be established in light of the growing trend of shipping petroleum by rail, and will fill one of the three “at large” RETAC seats.

Nominations for candidates to fill these vacancies should be submitted in letter form and should include: (1) The name of the candidate, (2) the interest the candidate will represent, (3) a summary of the candidate's experience and qualifications for the position, (4) a representation that the candidate is willing to serve as a member of RETAC, and (5) a representation that the candidate is not a federally registered lobbyist. Suggestions for candidates for membership on RETAC should be filed with the Board by December 27, 2012. Please note that submissions will be available to the public at the Board's offices and posted on the Board's Web site under Docket No. EP 670 (Sub-No. 2).

This action will not significantly affect either the quality of the human environment or the conservation of energy resources.

Authority: 49 U.S.C. 721, 49 U.S.C. 11101; 49 U.S.C. 11121.

By the Board.
Decided: November 26, 2012.
Rachel D. Campbell,
Director, Office of Proceedings.
Derrick A. Gardner,
Clearance Clerk.

[FR Doc. 2012-28941 Filed 11-29-12; 8:45 am]

BILLING CODE 4915-01-P